DEPARTMENT OF LABOR

Mine Safety and Health Administration

[OMB Control No. 1219-0103]

Proposed Extension of Information Collection; Notification of Methane Detected in Underground Metal and Nonmetal Mine Atmospheres

AGENCY: Mine Safety and Health Administration, Labor.

ACTION: Request for public comments.

SUMMARY: The Department of Labor (DOL), as part of its continuing effort to reduce paperwork and respondent burden, conducts a pre-clearance request for comment to provide the general public and Federal agencies with an opportunity to comment on proposed collections of information, in accordance with the Paperwork Reduction Act of 1995. This request helps to ensure that: requested data can be provided in the desired format; reporting burden (time and financial resources) is minimized; collection instruments are clearly understood; and the impact of collection requirements on respondents can be properly assessed. The Mine Safety and Health Administration (MSHA) is soliciting comments on the information collection entitled Notification of Methane Detected in Underground Metal and Nonmetal Mine Atmospheres.

DATES: All comments must be received on or before October 15, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0016.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

In order to fulfil the statutory mandates to protect miners' health and safety, MSHA requires the collection of information entitled Notification of Methane Detected in Underground Metal and Nonmetal Mine Atmospheres. The information collection addressed by this notice is intended to ensure that all underground mines, and the surface mills of Subcategory I-C mines (gilsonite), protect miners against the hazards of methane and dusts containing volatile matter.

Methane is a flammable gas found in underground mines in the United States. Although methane is often associated with underground coal mines, it also occurs in some metal and nonmetal (MNM) mines. Under 30 CFR 57.22003, underground MNM mines are categorized according to the potential to liberate methane. Methane is a colorless, odorless, tasteless gas, and it tends to rise to the roof of a mine because it is lighter than air. Although methane itself is nontoxic, its presence reduces the oxygen content by dilution when mixed with air and, consequently, can act as an asphyxiant when present in large quantities. Methane may enter the mining environment from a variety of sources including fractures, faults, or shear zones overlying or underlying the strata that surround the ore body, or from the ore body itself. It may occur as an occluded gas within the ore body. Methane mixed with air is explosive in the range of 5 to 15 percent, provided that 12 percent or more oxygen is present at room temperature. The presence of dust containing volatile matter in the mine atmosphere may further elevate the explosive potential of methane in a mine. Section 103(i) of the Mine Act, 30 U.S.C. 813(i), requires additional inspections to be conducted at mines depending on the amount of methane liberated from a mine.

i. Notifications to MSHA

Under 30 CFR 57.22004(c), mine operators of underground MNM mines must notify MSHA as soon as possible if any of the following events occur: (a) there is an outburst that results in 0.25 percent or more methane in the mine atmosphere, (b) there is a blowout that results in 0.25 percent or more methane in the mine atmosphere, (c) there is an ignition of methane, or (d) air sample results indicate 0.25 percent or more methane in the mine atmosphere of a I-B, I-C, II-B, V-B, or Category VI mine.

Under 30 CFR 57.22231 and 57.22239, mine operators must notify MSHA immediately if methane reaches 2.0 percent in a Category IV mine or if methane reaches 0.25 percent in the mine atmosphere of a Subcategory I-B, II-B, V-B, or VI mine as defined in section 57.22003. Under 30 CFR 57.22231, underground MNM mine operators are required to make changes to improve ventilation if methane reaches 0.25 percent in the mine atmosphere. Under 30 CFR 57.22239, if methane reaches 2.0 percent in the mine atmosphere, mine operators are required to withdraw all persons, other than competent persons necessary to make ventilation changes, from the mine until methane is reduced to less than 0.5 percent in a Category IV mine. Although the standards do not specify how MSHA is to be notified, MSHA anticipates that the notifications would be made by telephone.

ii. Records of Weekly Certification

Under 30 CFR 57.22229(a) and 57.22230(a), the mine atmosphere must be tested for methane and/or carbon dioxide at least once every seven days by a competent person or atmospheric monitoring system, or a combination of both. Under 30 CFR 57.2229, underground MNM mines categorized as I-A, III, and V-A mines are required to test the atmosphere for both methane and carbon dioxide. Under 30 CFR 57.22230, underground MNM mines categorized as II-A mines are required to test the atmosphere for methane. Under 30 CFR 57.22229(d) and 57.22230(c), the person performing the tests must certify by signature and date that the tests have been conducted. Certifications of examinations shall be kept for at least one year and made available to authorized representatives of the Secretary.

iii. Informing All Affected Miners

Under 30 CFR 57.22229(c) and 57.22230(b), mine operators must inform affected miners and take corrective actions when examinations disclose hazardous conditions.

II. Desired Focus of Comments

MSHA is soliciting comments concerning the proposed information collection related to Notification of Methane Detected in Underground Metal and Nonmetal Mine Atmospheres. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This information collection request concerns provisions for Notification of Methane Detected in Underground Metal and Nonmetal Mine Atmospheres. MSHA has updated the data with respect to the number of respondents, responses, time burden, and burden costs supporting this information collection request from the previous information collection request.

Type of Review: Extension, without change, of a currently approved collection.

Agency: Mine Safety and Health Administration.

OMB Number: 1219-0103.

Affected Public: Business or other for-profit.

Number of Annual Respondents: 4.

Frequency: On occasion.

Number of Annual Responses: 213.

Annual Time Burden: 18 hours.

Annual Other Burden Costs: $0.

Comments submitted in response to this notice will be summarized and included in the request for Office of Management and Budget approval of the proposed information collection request; they will become a matter of public record and be available at https://www.reginfo.gov.

Song-ae Aromie Noe,
Certifying Officer, Mine Safety and Health Administration.

[FR Doc. 2024-18181 Filed 8-14-24; 8:45 am]

BILLING CODE 4510-43-P